DEPARTMENT OF COMMERCE

National Oceanic and Atmospheric Administration

RIN 0648-XC635

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold a special webinar meeting in order to address Snapper Grouper Regulatory Amendment 19 as well as the Proposed Rule for Gulf Council Permit Transfer and Renewal Requirements. The Council will take action as necessary. The Council will also hold a public comment session via webinar.

DATES: The Council meeting will be held from 1 p.m. until 5 p.m. on Monday, May 13, 2013.

ADDRESSES: Meeting address: The meeting will be held via GoToWebinar. The webinar is open to members of the public. Those interested in participating should contact Mike Collins (see Contact Information below) to request an invitation providing webinar access information. Please request meeting information at least 24 hours in advance of the meeting.

Council address: South Atlantic Fishery Management Council, 4055 Faber Place Drive, Suite 201, N. Charleston, SC 29405.

FOR FURTHER INFORMATION CONTACT: Mike Collins, Administrative Officer, SAFMC; telephone: (843) 571-4366 or toll free: (866) SAFMC-10; fax: (843) 769-4520; email: mike.collins@safmc.net.

SUPPLEMENTARY INFORMATION: The items of discussion are as follows:

Council Session Agenda, Monday, May 13, 2013, 1 p.m. until 5 p.m.

1. Call the meeting to order, adopt the agenda and approve the March 2013 minutes.

Public comment will be accepted on Snapper Grouper Regulatory Amendment 19 and the Proposed Rule to address Permit Transfer and Renewal Requirements for Gulf of Mexico For-Hire Permits. Individuals wishing to comment verbally must use the question feature (box) on the webinar control panel to indicate their desire to speak. This must be done by 1:15 p.m. (The webinar page will be available from 12 noon until 1:15 p.m. on May 13, 2013 for individuals to register their desire to comment verbally.) At 1:15 p.m., the Chairman will begin the public comment period by calling on those individuals that registered using the webinar control panel question feature.

Snapper Grouper Regulatory Amendment 19

1. Receive an update on the Scientific and Statistical Committee (SSC) review and recommendations of the 2013 stock assessment update for black sea bass.

2. Receive an overview and a summary of public comments pertaining to Regulatory Amendment 19. This amendment proposes changes in Annual Catch Limits (ACLs), Annual Catch Targets (ACTs), and the Allowable Biological Catch (ABC) for black sea bass.

3. Discuss the amendment, modify it as appropriate, select preferred alternatives, deem the codified text as necessary, and approve Regulatory Amendment 19 for formal Secretarial review.

Gulf Council Permit Transfer and Renewal Requirements

1. Receive an overview of the Proposed Rule to address permit transfer and renewal requirement for Gulf of Mexico for-hire permits only. This action would revise current transfer restrictions and would allow a for-hire vessel to maintain greater capacity for non-fishing activities. While fishing, however, the passenger capacity listed on the for-hire permit (based on the passenger capacity of the vessel when the permit was issued) remains restricted to the permit. Additionally, the vessel would no longer need to submit a Certificate of Inspection documentation for renewal.

2. Discuss and approve the Proposed Rule.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 3 days prior to the meeting.

Note: The times and sequence specified in this agenda are subject to change.

Dated: April 17, 2013.
Tracey L. Thompson,
Acting Deputy Director, Office of Sustainable Fisheries, National Marine Fisheries Service.

[FR Doc. 2013-09397 Filed 4-19-13; 8:45 am]

BILLING CODE 3510-22-P